DEPARTMENT OF TRANSPORTATION

Surface Transportation Board

[Docket No. FD 35428]

Golden Triangle Railroad, LLC—Acquisition and Operation Exemption—Golden Triangle Railroad Company

Golden Triangle Railroad, LLC (GTRA), a noncarrier, has filed a verified notice of exemption under 49 CFR 1150.31 to: (1) Acquire from Golden Triangle Railroad Company (Old GTRA) and to operate approximately 8.6 miles of rail line between milepost 8.6 (Trinity, Miss.) and milepost 0.0 (Triangle Jct., Miss.), including the side track at Bell Avenue in Lowndes County, Miss.; and (2) acquire by assignment from Old GTRA 10.1 miles of incidental trackage rights over the Kansas City Southern Railway Company (KCS) between mileposts 5.0 and 15.1 in Columbus, Mo.¹

¹ GTRA states that it intends to continue to interchange traffic (1) at Columbus, Miss., with Alabama & Gulf Coast Railway, LLC, BNSF Railway Company, Columbus and Greenville Railway Company, and KCS, and (2) at Triangle Jct., with Norfolk Southern Railway Company.

This transaction is related to a transaction in which Patriot Rail, LLC and its subsidiaries entered into an asset purchase agreement on July 21, 2010, to acquire from Weyerhaeuser NR Company certain rail assets and the rail assets of five of its subsidiaries.

This transaction is also related to six other transactions for which notices of exemption have been concurrently filed: Docket No. FD 35425, Tennessee Southern Railroad Company, Patriot Rail, LLC, Patriot Rail Holdings, LLC, and Patriot Rail Corp.—Continuance in Control Exemption—Columbia & Cowlitz Railway, LLC, DeQueen and Eastern Railroad, LLC, Golden Triangle Railroad, LLC, Mississippi & Skuna Valley Railroad, LLC, Patriot Woods Railroad, LLC, and Texas, Oklahoma & Eastern Railroad, LLC, in which Patriot Rail, LLC and its subsidiaries seek to continue in control of GTRA in this proceeding and five other newly created noncarrier subsidiaries, upon the latter becoming Class III rail carriers in the following proceedings: (1) Docket No. FD 35426, Columbia & Cowlitz Railway, LLC—Acquisition and Operation Exemption—Columbia & Cowlitz Railway Company; (2) Docket No. FD 35427, DeQueen and Eastern Railroad, LLC—Acquisition and Operation Exemption—DeQueen and Eastern Railroad Company; (3) Docket No. FD 35429, Mississippi & Skuna Valley Railroad, LLC—Acquisition and Operation Exemption—Mississippi & Skuna Valley Railroad Company, (4) Docket No. FD 35430, Texas, Oklahoma & Eastern Railroad, LLC—Acquisition and Operation Exemption—Texas, Oklahoma & Eastern Railroad Company; and (5) Docket No. FD 35431, Patriot Woods Railroad, LLC—Acquisition and Operation Exemption—Weyerhaeuser NR Company, Weyerhaeuser Woods Railroad Operating Division.

The parties intend to consummate the transaction on or after December 21, 2010.

GTRA certifies that its projected annual revenues as a result of this transaction will not exceed those that would qualify it as a Class III rail carrier and will not exceed $5 million.

If the verified notice contains false or misleading information, the exemption is void ab initio. Petitions to revoke the exemption under 49 U.S.C. 10502(d) may be filed at any time. The filing of a petition to revoke will not automatically stay the effectiveness of the exemption. Petitions to stay must be filed no later than November 12, 2010 (at least 7 days before the exemption becomes effective).

An original and 10 copies of all pleadings, referring to Docket No. FD 35428, must be filed with the Surface Transportation Board, 395 E Street, SW., Washington, DC 20423-0001. In addition, a copy of each pleading must be served on Louis E. Gitomer, 600 Baltimore Ave., Suite 301, Towson, MD 21204.

Board decisions and notices are available on our Web site at http://www.stb.dot.gov.

Decided: November 1, 2010.
By the Board, Rachel D. Campbell, Director, Office of Proceedings.
Andrea Pope-Matheson,
Clearance Clerk.

[FR Doc. 2010-27967 Filed 11-4-10; 8:45 am]

BILLING CODE P